ENVIRONMENTAL PROTECTION AGENCY

[EPA-HQ-OAR-2021-0084; FRL-9617-01-OMS]

Information Collection Request Submitted to OMB for Review and Approval; Comment Request; NESHAP for Mercury (Renewal)

AGENCY: Environmental Protection Agency (EPA).

ACTION: Notice.

SUMMARY: The Environmental Protection Agency (EPA) has submitted an information collection request (ICR), NESHAP for Mercury (EPA ICR Number 0113.14, OMB Control Number 2060-0097), to the Office of Management and Budget (OMB) for review and approval in accordance with the Paperwork Reduction Act. This is a proposed extension of the ICR, which is currently approved through April 30, 2022. Public comments were previously requested, via the Federal Register, on April 13, 2021, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 30, 2022.

ADDRESSES: Submit your comments, referencing Docket ID Number EPA-HQ-OAR-2021-0084, to EPA online using https://www.regulations.gov/ (our preferred method), or by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be confidential business information or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit http://www.epa.gov/dockets.

Abstract: The Emission Standards for Hazardous Air Pollutants (NESHAP) for Mercury (40 CFR part 61, subpart E) regulations apply to existing facilities and new facilities which process mercury ore to recover mercury, use mercury chlor-alkali cells to produce chlorine gas and alkali metal hydroxide, and incinerate or dry wastewater treatment plant sludge. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Owners and operators of facilities which process mercury ore to recover mercury, use mercury chlor-alkali cells to produce chlorine gas and alkali metal hydroxide, and incinerate and/or dry wastewater treatment plant sludge.

Respondent's obligation to respond: Mandatory (40 CFR part 61, subpart E).

Estimated number of respondents: 101 (total).

Frequency of response: Annually and semiannually.

Total estimated burden: 17,200 hours (per year). Burden is defined at 5 CFR 1320.3(b).

Total estimated cost: $2,030,000 (per year), which includes $0 in annualized capital/startup and/or operation & maintenance costs.

Changes in the Estimates: There is an adjustment decrease in the total estimated burden as currently identified in the OMB Inventory of Approved Burdens. This decrease is not due to any program changes. The adjustment decrease in burden from the most recently-approved ICR is due to a decrease in the number of sources. Consultations with the Agency's internal industry experts have shown that a number of cell chlor-alkali plants have shut down since the previous ICR renewal, leading to a decrease in respondent labor hours and the number of responses. There are no capital or operation and maintenance costs associated with this ICR. The overall result is a decrease in burden.

Courtney Kerwin,
Director, Regulatory Support Division.

[FR Doc. 2022-04133 Filed 2-25-22; 8:45 am]

BILLING CODE 6560-50-P